DEPARTMENT OF COMMERCE

National Oceanic and Atmospheric Administration

[I.D. 042202C]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration (NOAA).

Title:Seafood Inspection and Certification Requirements.

Form Number(s):NOAA Forms 89-800, 89-814, 89-819.

OMB Approval Number:0648-0266.

Type of Request:Regular submission.

Burden Hours:13,065.

Number of Respondents:7,082.

Average Hours Per Response:5 minutes for an application for inspection services, an application for appeal, or completion of a contract; 30 minutes for a label and specification submission; 105 hours for a Hazard Analysis Critical Control Point ( HACCP) Plan; and 80 hours for monitoring and recordkeeping.

Needs and Uses: NOAA operates a voluntary fee-for-service seafood inspection program. Federally-inspected products may display official quality grade marks. Those wishing to participate in the program must request the services and submit specific compliance information.

Affected Public:Business and other for profit organizations.

Frequency:On occasion.

Respondent's Obligation:Required to obtain or retain a benefit.

OMB Desk Officer:David Rostker, (202) 395-3897.

Copies of the above information collection proposal can be obtained by calling or writing Madeleine Clayton, Departmental Paperwork Clearance Officer, (202) 482-3129, Department of Commerce, Room 6608, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: April 18, 2002.
Madeleine Clayton,
Departmental Paperwork Clearance Officer, Office of the Chief Information Officer.

[FR Doc. 02-10359 Filed 4-25-02; 8:45 am]

BILLING CODE 3510-22-S